SMALL BUSINESS ADMINISTRATION

[Declaration of Disaster #3322]

State of Alabama

Covington and Washington Counties and the contiguous counties of Baldwin, Butler, Choctaw, Clarke, Coffee, Conecuh, Crenshaw, Escambia, Geneva and Mobile in the State of Alabama; Okaloosa and Walton in the State of Florida; Greene and Wayne in the State of Mississippi constitute a disaster area due to damages caused by severe storms and tornadoes that occurred on March 12, 2001. Applications for loans for physical damage may be filed until the close of business on May 18, 2001 and for economic injury until the close of business on December 18, 2001 at the address listed below or other locally announced locations:

U.S. Small Business Administration, Disaster Area 2 Office, One Baltimore Place, Suite 300, Atlanta, GA 30308.

The interest rates are:

| Percent
For Physical Damage:
Homeowners with credit available elsewhere | 7.000
Homeowners without credit available elsewhere | 3.500
Businesses with credit available elsewhere | 8.000
Businesses and non-profit organizations without credit available elsewhere | 4.000
Others (including non-profit organizations) with credit available elsewhere | 7.000
For Economic Injury:
Businesses and small agricultural cooperatives without credit available elsewhere | 4.000

The number assigned to this disaster for physical damage is 332211 for Alabama; 332311 for Florida; 332411 for Mississippi. For economic injury the numbers are 9K9900 for Alabama, 9L0000 for Florida, 9L0100 for Mississippi.

(Catalog of Federal Domestic Assistance Program Nos. 59002 and 59008.)
Dated: March 19, 2001.
John Whitmore,
Acting Administrator.

[FR Doc. 01-7582 Filed 3-27-01; 8:45 am]

BILLING CODE 8025-01-U